DEPARTMENT OF TRANSPORTATION

Federal Aviation Administration

14 CFR Part 39

[Docket No. FAA-2024-1689; Project Identifier AD-2024-00109-T; Amendment 39-22910; AD 2024-25-08]

RIN 2120-AA64

Airworthiness Directives; The Boeing Company Airplanes

AGENCY: Federal Aviation Administration (FAA), DOT.

ACTION: Final rule.

SUMMARY: The FAA is adopting a new airworthiness directive (AD) for all The Boeing Company Model 767-200, -300, and -300F airplanes. This AD was prompted by a report of a main landing gear (MLG) collapse event following maintenance where a grinder was operating outside of its input parameters, resulting in possible heat damage to the outer cylinder of the MLG. This AD requires replacing affected outer cylinders. The FAA is issuing this AD to address the unsafe condition on these products.

DATES: This AD is effective February 12, 2025.

The Director of the Federal Register approved the incorporation by reference of a certain publication listed in this AD as of February 12, 2025.

ADDRESSES:

AD Docket: You may examine the AD docket at regulations.gov under Docket No. FAA-2024-1689; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2024-1689.

FOR FURTHER INFORMATION CONTACT: Stefanie Roesli, Aviation Safety Engineer, FAA, 2200 South 216th St., Des Moines, WA 98198; phone: 206-231-3964; email: Stefanie.N.Roesli@faa.gov.

SUPPLEMENTARY INFORMATION:

Background

The FAA issued a notice of proposed rulemaking (NPRM) to amend 14 CFR part 39 by adding an AD that would apply to all The Boeing Company Model 767-200, -300, and -300F series airplanes. The NPRM published in the Federal Register on June 20, 2024 (89 FR 51856), corrected July 15, 2024 (89 FR 57377). The NPRM was prompted by a report of a MLG collapse event following maintenance where a grinder was operating outside of its input parameters, resulting in possible heat damage to the outer cylinder of the MLG. In the NPRM, the FAA proposed to require replacing any affected outer cylinders. The FAA is issuing this AD to address any heat damage to the outer cylinder of the landing gear, which could result in the inability of a principal structural element to sustain limit load, gear collapse resulting in loss of control of the airplane, and potential for off-runway excursion.

Discussion of Final Airworthiness Directive

Comments

The FAA received comments from Air Line Pilots Association, International, Aviation Partners Boeing, and an individual commenter, who supported the NPRM without change.

The FAA received an additional comment from The Boeing Company. The following presents the comment received on the NPRM and the FAA's response.

Effect of Winglets on Accomplishment of the Proposed Actions

Aviation Partners Boeing stated that accomplishing Supplemental Type Certificate (STC) ST01920SE does not affect the actions specified in the proposed AD.

The FAA concurs with the commenter. The FAA has redesignated paragraph (c) of the proposed AD as paragraph (c)(1) of this AD and added paragraph (c)(2) to this AD to state that installation of STC ST01920SE does not affect the ability to accomplish the actions required by this AD. Therefore, for airplanes on which STC ST01920SE is installed, a “change in product” alternative method of compliance (AMOC) approval request is not necessary to comply with the requirements of 14 CFR 39.17.

Request for Parts Installation Prohibition Paragraph

Boeing requested the addition of a parts installation prohibition paragraph as of the effective date of this AD. Boeing stated that the parts prohibition paragraph should prohibit installation of any affected outer cylinders with part numbers and serial numbers listed in Appendix A, B, or C of Boeing Alert Requirements Bulletin 767-32A0253 RB, dated February 6, 2024, unless the parts have been inspected, applicable on-condition corrective actions have been done, and the parts have been part marked, in accordance with Appendix D of Boeing Alert Requirements Bulletin 767-32A0253 RB. The MLG outer cylinders are rotable structural components (RSC) that may be moved from one airplane to another. Additionally, the commenter asserted that since the applicability of the proposed AD covers all Model 767-200, -300, and -300F series airplanes in service, the parts installation prohibition is needed to prevent the affected outer cylinders from being moved onto airplanes that have already complied with the required actions of the AD.

The FAA agrees to clarify. This AD applies to all The Boeing Company Model 767-200, -300, and -300F airplanes. 14 CFR 39.7 specifies that once an AD is issued, no person may operate a product to which the AD applies except in accordance with the requirements of that AD. Further, 14 CFR 39.9 imposes a continuing obligation to maintain compliance with an AD by establishing a separate violation for each time an aircraft is operated that fails to meet AD requirements. Since this AD captures all possibly affected operators and requires replacement of the affected parts, and since those operators have an ongoing obligation to ensure that the AD-mandated configuration is maintained, a parts installation prohibition is unnecessary. The FAA has not changed this AD as a result of the request.

Conclusion

The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed Boeing Alert Requirements Bulletin 767-32A0253 RB, dated February 6, 2024. This material specifies procedures for performing a check of maintenance records or performing an inspection of the left and right MLG outer cylinders for any affected part numbers and serial numbers and replacing affected cylinders.

This material is reasonably available because the interested parties have access to it through their normal course of business or by the means identified in the ADDRESSES section.

Costs of Compliance

The FAA estimates that this AD affects 574 airplanes of U.S. registry. The FAA estimates the following costs to comply with this AD:

Action | Labor cost | Parts cost | Cost per product | Cost on U.S. operators
Inspection or maintenance records check for affected part numbers | Up to 3 work-hours × $85 per hour = $255 | $0 | Up to $255 | Up to $146,370.

The FAA estimates the following costs to do any necessary replacements that would be required based on the results of the inspection or maintenance records check. The agency has no way of determining the number of aircraft that might need this replacement:

On-Condition Costs
Action | Labor cost | Parts cost | Cost per product
Replacement of MLG outer cylinder (83 affected parts) | 189 work-hours * × $85 per hour = $16,065 | * $500,000 | $516,065
* Task work-hours and parts cost are based on one MLG outer cylinder replacement.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-25-08 The Boeing Company: Amendment 39-22910; Docket No. FAA-2024-1689; Project Identifier AD-2024-00109-T.

(a) Effective Date

This airworthiness directive (AD) is effective February 12, 2025.

(b) Affected ADs

None.

(c) Applicability

(1) This AD applies to all The Boeing Company Model 767-200, -300, and -300F series airplanes, certificated in any category.

(2) Installation of Supplemental Type Certificate (STC) ST01920SE does not affect the ability to accomplish the actions required by this AD. Therefore, for airplanes on which STC ST01920SE is installed, a “change in product” alternative method of compliance (AMOC) approval request is not necessary to comply with the requirements of 14 CFR 39.17.

(d) Subject

Air Transport Association (ATA) of America Code 32, Landing Gear.

(e) Unsafe Condition

This AD was prompted by a report of a main landing gear (MLG) collapse event following maintenance where a grinder was operating outside of its input parameters, resulting in possible heat damage to the outer cylinder of the MLG. The FAA is issuing this AD to address any heat damage to the outer cylinder of the landing gear. The unsafe condition, if not addressed, could result in the inability of a principal structural element to sustain limit load, gear collapse resulting in loss of control of the airplane, and potential for off-runway excursion.

(f) Compliance

Comply with this AD within the compliance times specified, unless already done.

(g) Required Actions

Except as specified by paragraph (h) of this AD: At the applicable times specified in the “Compliance” paragraph of Boeing Alert Requirements Bulletin 767-32A0253 RB, dated February 6, 2024, do all applicable actions identified in, and in accordance with, the Accomplishment Instructions of Boeing Alert Requirements Bulletin 767-32A0253 RB, dated February 6, 2024.

Note 1 to paragraph (g): Guidance for accomplishing the actions required by this AD can be found in Boeing Alert Service Bulletin 767-32A0253, dated February 6, 2024, which is referred to in Boeing Alert Requirements Bulletin 767-32A0253 RB, dated February 6, 2024.

(h) Exceptions to Service Information Specifications

Where the Boeing Recommended Compliance Time column of the table in the “Compliance” paragraph of Boeing Alert Requirements Bulletin 767-32A0253 RB, dated February 6, 2024, uses the phrase “the Original Issue date of Requirements Bulletin 767-32A0253 RB,” this AD requires using the effective date of this AD.

(i) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(j) Related Information

(1) For more information about this AD, contact Stefanie Roesli, Aviation Safety Engineer, FAA, 2200 South 216th St., Des Moines, WA 98198; phone: 206-231-3964; email: Stefanie.N.Roesli@faa.gov.

(2) Service information identified in this AD that is not incorporated by reference is available at the address specified in paragraph (k)(3) of this AD.

(k) Material Incorporated by Reference

(1) The Director of the Federal Register approved the incorporation by reference of the material listed in this paragraph under 5 U.S.C. 552(a) and 1 CFR part 51.

(2) You must use this material as applicable to do the actions required by this AD, unless the AD specifies otherwise.

(i) Boeing Alert Requirements Bulletin 767-32A0253 RB, dated February 6, 2024.

(ii) [Reserved]

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on December 9, 2024.
Peter A. White,
Deputy Director, Integrated Certificate Management Division, Aircraft Certification Service.

[FR Doc. 2025-00144 Filed 1-7-25; 8:45 am]

BILLING CODE 4910-13-P